POSTAL SERVICE BOARD OF GOVERNORS

Sunshine Act Meeting

Time and Dates: 9 a.m., Monday, August 4, 2003; 3:30 p.m., Monday, August 4, 2003; and 8 a.m., Tuesday, August 5, 2003.

Place: Portland, Maine, at the Marriott Hotel, 200 Sable Oaks Drive, in Salons D and E of the Grand Ballroom.

Status: August 4—9 a.m. (Closed); 3:30 p.m. (Open); August 5—8 a.m. (Closed).

Matters to be Considered:

Monday, August 4—9 a.m. (Closed)

1. Strategic Planning.

2. Financial Update.

3. Preliminary Report on Goals and Performance Assessment for Fiscal Year 2004.

4. Preliminary Fiscal Year 2004 Integrated Financial Plan and Financial Outlook.

5. Personnel Matters and Compensation Issues.

Monday, August 4—3:30 p.m. (Open)

1. Minutes of Previous Meetings, June 2, June 27, and July 21, 2003.

2. Remarks of the Postmaster General and CEO.

3. Quarterly Report on Service Performance.

4. Financing the Postal System—Cost and Revenue Analysis Report.

5. Capital Investments.

a. Flats ID Code Sort for All Automated Flat Sorting Machines (AFSM) 100s.

b. 354 Automatic Tray Handling Systems for the AFSM 100s.

c. Philadelphia, Pennsylvania, Processing & Distribution Center and Vehicle Maintenance Facility.

6. Report on the Northeast Area and Maine District.

7. Tentative Agenda for the September 8-9, 2003, meeting in Washington, DC.

Tuesday, August 5—8 a.m. (Closed)

1. Strategic Planning

2. Personnel Matters and Compensation Issues.

Contact Person for More Information: William T. Johnstone, Secretary of the Board, U.S. Postal Service, 475 L'Enfant Plaza, SW., Washington, DC 20260-1000. Telephone (202) 268-4800.

William T. Johnstone,
Secretary.

[FR Doc. 03-19250 Filed 7-24-03; 11:56 am]

BILLING CODE 7710-12-M